DEPARTMENT OF THE INTERIOR

Fish and Wildlife Service

Availability of Comprehensive Conservation Plan and Summary for Tewaukon National Wildlife Refuge Complex, Cayuga, ND

AGENCY: Fish and Wildlife Service, Interior.

ACTION: Notice of availability.

SUMMARY: Pursuant to the Refuge Improvement Act of 1997, the U.S. Fish and Wildlife Service has published the Tewaukon National Wildlife Refuge Comprehensive Conservation Plan and Summary. This Plan describes how the FWS intends to manage the Tewaukon Complex for the next 10-15 years.

ADDRESSES: A copy of the Plan may be obtained by writing to U.S. Fish and Wildlife Service, Tewaukon National Wildlife Refuge, 9754 143½ Avenue SW., Cayuga ND 58013; or download from http://www.r6.fws.gov/larp.

FOR FURTHER INFORMATION CONTACT: Allison Banks, U.S. Fish and Wildlife Service, P.O. Box 25486 DFC, Denver, CO 80225, 303/236-8145 extension 626; fax 303/236-4792.

SUPPLEMENTARY INFORMATION: Tewaukon NWR Complex is located in southeast North Dakota. Implementation of the Plan will focus on adaptive resource management of glaciated prairie wetlands, tall and mixed-grass prairie grasslands, riparian woodlands, and opportunities for wildlife-dependent recreation. Habitat monitoring and evaluation will be emphasized as the Plan is implemented. Opportunities for compatible wildlife-dependent recreation will continue to be provided.

Dated: November 27, 2000.
Elliott Sutta,
Regional Director, Denver, Colorado.

[FR Doc. 00-30614 Filed 11-30-00; 8:45 am]

BILLING CODE 4310-55-M